DEPARTMENT OF ENERGY

Federal Energy Regulatory Commission

[Project No. 2100-052]

California Department of Water Resources; Notice of Application and Applicant Prepared Environmental Assessment Tendered for Filing With the Commission, and Establishing Procedural Schedule for Relicensing and Deadline for Submission of Final Amendments

February 3, 2005.

Take notice that the following hydroelectric application has been filed with the Commission and is available for public inspection.

a. Type of Application: New—major license.

b. Project No.: 2100-52.

c. Date Filed: January 26, 2005.

d. Applicant: California Department of Water Resources.

e. Name of Project: Oroville Facilities.

f. Location: On the Feather River near Oroville, California. The project affects Federal lands.

g. Filed Pursuant to: Federal Power Act, 16 U.S.C. 791(a)-825(r).

h. Applicant Contact: Henry M. “Rick” Ramirez, Program Manager, Oroville Facilities Relicensing Program, California Department of Water Resources, 1416 9th Street, Sacramento, California 95814. Phone: 916-657-4963. E-mail: ramirez@water.ca.gov.

i. FERC Contact: James Fargo at (202) 502-6211, or james.fargo@ferc.gov.

j. Cooperating Agencies: We are asking Federal, State, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for Requests for Cooperating Agency Status: 60 days from the date of this notice.

All documents (original and eight copies) should be filed with: Magalie R. Salas, Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of Project: The Oroville Facilities are located on the Feather River in the foothills of the Sierra Nevada in Butte County, California. Oroville Dam is located 5 miles east of the City of Oroville and about 130 miles northeast of San Francisco. The Oroville Facilities are part of the State Water Project (SWP), a water storage and delivery system of reservoirs, aqueducts, power plants, and pumping plants. One of the two main purposes of the SWP is to store and distribute water to supplement the needs of urban and agricultural water users in Northern California, the San Francisco Bay Area, the San Joaquin Valley Central Coast, and Southern California. The Oroville Facilities are also operated for flood management, power generation, water quality improvement in the Sacramento-San Joaquin Delta (Delta), recreation, and fish and wildlife enhancement.

The existing facilities encompass 41,100 acres and include Oroville Dam, Lake Oroville, three power plants (Hyatt Pumping-Generating Plant, Thermalito Diversion Dam Powerplant, and Thermalito Pumping-Generating Plant), Thermalito Diversion Dam, the Feather River Fish Hatchery and Fish Barrier Dam, Thermalito Power Canal, the Oroville Wildlife Area, Thermalito Forebay, Thermalito Forebay Dam, Thermalito Afterbay, Thermalito Afterbay Dam, and transmission lines, as well as a number of recreational facilities.

Oroville Dam, along with two small saddle dams, impounds Lake Oroville, a 3.5 million acre-foot capacity storage reservoir with a surface area of 15,810 acres at its normal maximum operating level. The hydroelectric units at the Oroville Facilities have a combined licensed generating capacity of approximately 762 MW.

n. A copy of the application is available for review at the Commission in the Public Reference Room or may be viewed on the Commission's Web site at http://www.ferc.gov using the “eLibrary” link. Enter the docket number, excluding the last three digits in the docket number field (P-2100), to access the document. For assistance, contact FERC Online Support at FERCOnlineSupport@ferc.gov, or toll-free at 1-866-208-3676, or for TTY, (202) 502-8659. A copy is also available for inspection and reproduction at the address in item h above.

You may also register online at http://www.ferc.gov/esubscribenow.htm to be notified via e-mail of new filings and issuances related to this or other pending projects. For assistance, contact FERC Online Support.

o. With this notice, we are initiating consultation with the California State Historic Preservation Officer (SHPO), as required by section 106, National Historic Preservation Act, and the regulations of the Advisory Council on Historic Preservation, 36 CFR 800.4.

p. Procedural Schedule and Final Amendments: The application will be processed according to the following Hydro Licensing Schedule. Revisions to the schedule will be made if the Commission determines it necessary to do so:

Milestone | Tentative date
Issue Acceptance/Deficiency Letter and request Additional Information, if needed | Apr. 2005.
Notice asking for final terms and conditions | Aug. 2005.
Notice of the availability of the draft EIS | Apr. 2006.
Notice of the availability of the final EIS | Oct. 2006.
Ready for Commission's decision on the application | Jan. 2007.

Final amendments to the application must be filed with the Commission no later than 30 days from the issuance date of the notice soliciting final terms and conditions.

Magalie R. Salas,
Secretary.

[FR Doc. E5-550 Filed 2-9-05; 8:45 am]

BILLING CODE 6717-01-P